DEPARTMENT OF TRANSPORTATION

Federal Aviation Administration

Agency Information Collection Activities: Requests for Comments; Clearance of Renewed Approval of Information Collection: Safety Management Systems for Part 121 Certificate Holders

AGENCY: Federal Aviation Administration (FAA), DOT.

ACTION: Notice and request for comments.

SUMMARY: In accordance with the Paperwork Reduction Act of 1995, FAA invites public comments about our intention to request the Office of Management and Budget (OMB) approval to renew an information collection. The collection involves safety data and analysis by part 121 Certificate Holders required by regulation to implement a Safety Management System (SMS). The Certificate Holder will use the data it collects to identify hazards and instances of non-compliance with requirements and standards. The safety policy, outputs of safety risk management and safety assurance processes, and training and communications records will be kept by the Certificate Holder and used in its SMS. The Certificate Holder will also use the data, records, and documentation to show compliance with regulations. However, none of these data, records, or documents will be submitted to FAA.

DATES: Written comments should be submitted by July 24, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION: Public Comments Invited: You are asked to comment on any aspect of this information collection, including (a) whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-0763.

Title: Safety Management Systems for Part 121 Certificate Holders.

Form Numbers: None.

Type of Review: Renewal of an information collection.

Background: Public Law required the FAA to initiate rulemaking requiring all part 121 air carriers to implement a Safety Management System (SMS). On March 9, 2018, all current part 121 Certificate Holders met the final compliance date to have a Safety Management System acceptable to the Administrator. There are four components to a Safety Management System: Safety Policy, Safety Risk Management, Safety Assurance, and Safety Promotion. Collection and analysis of safety data and concomitant records is an essential part of a properly functioning SMS. Safety Policy establishes the foundation for the SMS. Safety Risk Management determines and identifies hazards in an aviation operation. Safety Assurance measures the effectiveness of hazard identification and mitigation and prevention of new, unforeseen hazards. Safety Promotion requires the Certificate Holder to maintain training records and communications documentation used to promote safety.

Respondents: Approximately 70 part 121 Certificate Holders and any future applicants for a part 121 certificate.

Frequency: During the first 6 months of the 3-year effective date period, part 121 Certificate Holders were required to submit an SMS implementation plan. This was a onetime submission for the existing part 121 Certificate Holders and will be a onetime submission for future part 121 certificate applicants.

Estimated Average Burden per Response: 3,340 Hours (as an average of 30 large carriers (50+ aircraft), 31 medium carriers (10-49 aircraft), and 29 small carriers (9 or fewer aircraft)).

Estimated Total Annual Burden: 107,146 total labor hours for 3 years, $3,854,888 total cost over 3 years.

Issued in Fort Worth, TX on May 21, 2018.
Barbara L. Hall,
FAA Information Collection Clearance Officer, Performance, Policy, and Records Management Branch, ASP-110.

[FR Doc. 2018-11325 Filed 5-24-18; 8:45 am]

BILLING CODE 4910-13-P